DEPARTMENT OF DEFENSE

Office of the Secretary

Renewal of Department of Defense Federal Advisory Committees

AGENCY: DoD.

ACTION: Renewal of Federal Advisory Committee.

SUMMARY: Under the provisions of 33 U.S.C. 2251 and the Federal Advisory Committee Act of 1972, (5 U.S.C. Appendix), the Government in the Sunshine Act of 1976 (5 U.S.C. 552b), and 41 CFR 102-3.50(a), the Department of Defense gives notice that it is renewing the charter for the Inland Waterways Users Board (hereafter referred to as the Board).

The Board is a non-discretionary federal advisory committee that shall provide the Secretary of Defense through the Secretary of the Army and the Assistant Secretary of the Army for Civil Works, independent advice and recommendations on matters relating to construction and rehabilitation priorities and spending levels on the commercial navigation features and components of the U.S. inland waterways and inland harbors as defined in Public Law 95-502 and amended by Public Law 99-662.

The Board shall annually file their recommendations with the Secretary of the Army and with the Congress.

The Secretary of the Army may act upon the Board's advice and recommendations.

Pursuant to 33 U.S.C. 2251(a), the Board shall be composed of eleven members appointed by the Secretary of Defense. The members shall be selected so as to represent various regions of the country and a spectrum of the primary users and shippers utilizing the inland and intra-coastal waterways for commercial purposes. Due considerations shall be given to assure a balance among the members based on the ton-mile shipment of the various categories of commodities shipped on inland waterways.

Board members appointed by the Secretary of Defense, who are not full-time federal officers or employees, shall be appointed as experts and consultants under the authority of 5 U.S.C. 3109, and these individuals shall serve as Special Government Employees. Board members shall, with the exception of travel and per diem for official travel, serve without compensation.

Board members shall serve two-year terms, with their appointments renewed on an annual basis by the Secretary of Defense. No member, unless otherwise selected by the Secretary of the Army and approved by the Secretary of Defense, shall serve more than four consecutive years on the Board. Appointments vacated prior to the expiration of the term of appointment shall be filled only for the remainder of the term.

The Secretary of the Army shall select the Board's Chairperson and Vice-Chairperson from the total membership, and these individuals shall serve at the discretion of the Secretary of the Army. The Vice Chairperson will act as Chairperson in the absence or incapacity of the Chairperson, or in the event of a vacancy in the office of the Chairperson.

The Secretary of the Army shall designate, and the Secretaries of Agriculture, Transportation and Commerce may designate, representatives to act as non-voting observers of the Board. In addition, the Secretary of the Army through the Secretary of Defense may appoint consultants with special expertise to assist the Board on an ad hoc basis.

With DoD approval, the Board is authorized to establish subcommittees, as necessary and consistent with its mission and these subcommittees shall operate under the provisions of the Federal Advisory Committee Act of 1972, the Government in the Sunshine Act of 1976 (5 U.S.C. 552b), and other appropriate federal regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Commission members, shall be appointed in the same manner as the Board members. Such individuals, if not full-time or part-time government employees, shall be appointed to serve as experts and consultants under the authority of 5 U.S.C. 3019, and serve as special government employees, whose appointments must be renewed by the Secretary of Defense on an annual basis.

SUPPLEMENTARY INFORMATION: The Board shall meet at the call of the Board's Designated Federal Officer, in consultation with the Chairperson. Pursuant to 33 U.S.C. 2251(B), the Board shall meet at least semi-annually.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Inland Waterways Users Board membership about the Board's mission and functions. Written statements may be submitted at any time or in response to the stated agenda of planned meeting of Inland Waterways Users Board.

All written statements shall be submitted to the Designated Federal Officer for the Inland Waterways Users Board, and this individual will ensure that the written statements are provided to the membership for their consideration. Contact information for the Inland Waterways Users Board Designated Federal Officer can be obtained from the GSA's FACA Database— https://www.fido.gov/facadatabase/public.asp.

The Designated Federal Officer, pursuant to 41 CFR 102-3.150, will announce planned meetings of the Inland Waterways Users Board. The Designated Federal Officer, at that time, may provide additional guidance on the submission of written statements that are in response to the stated agenda for the planned meeting in question.

FOR FURTHER INFORMATION CONTACT: Contact Jim Freeman, Deputy Advisory Committee Management Officer for the Department of Defense, 703-601-6128.

Dated: March 22, 2011.
Morgan F. Park,
Alternate OSD Federal Register Liaison Officer, Department of Defense.

[FR Doc. 2011-7050 Filed 3-24-11; 8:45 am]

BILLING CODE 5001-06-P